DEPARTMENT OF HEALTH AND HUMAN SERVICES

Administration for Community Living

Administration on Aging

Agency Information Collection Activities; Proposed Collection; Comment Request; State Annual Long-Term Care Ombudsman Report Amended Data Collection

AGENCY: Administration for Community Living, Administration on Aging, HHS.

ACTION: Notice.

SUMMARY: The Administration on Community Living, Administration on Aging (ACL/AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to conflict of interest reporting per the Code of Federal Regulations and Older Americans Act Title VII.

DATES: Submit written or electronic comments on the collection of information by August 29, 2016.

ADDRESSES: Submit electronic comments on the collection of information to: louise.ryan@acl.hhs.gov.

Submit written comments on the collection of information to: U.S. Department of Health and Human Services: Administration for Community Living 701 Fifth Avenue, Suite 1600 M/S RX-33, Seattle, WA 98104, Attention: Louise Ryan.

FOR FURTHER INFORMATION CONTACT: Louise Ryan by telephone: (206) 615-2514 or by email: louise.ryan@acl.hhs.gov

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL/AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

Section 1327.21 (conflicts of interest) of the Long-Term Care Ombudsman Program rule requires the State agency and the Ombudsman to identify and take steps to remove or remedy organizational conflicts of interest between the Office and the State agency or other agency carrying out the Ombudsman program. Additionally the rule requires the Ombudsman to identify organizational conflicts of interest in the Ombudsman program and describe steps taken to remove or remedy conflicts within the annual report submitted to the Assistant Secretary through the National Ombudsman Reporting System. The proposed form and instructions are posted on the ACL/AoA Web site at: http://www.aoa.acl.gov/AoA_Programs/Elder_Rights/Ombudsman/index.aspx.

AoA estimates the burden of this additional collection of information as follows: Approximately 10 to 30 minutes per respondent, depending on the number of conflicts to report, with 52 state Ombudsman programs responding annually for a range of 8.6 to 26 hours.

Dated: June 23, 2016.
Kathy Greenlee,
Administrator and Assistant Secretary for Aging.

[FR Doc. 2016-15433 Filed 6-29-16; 8:45 am]

BILLING CODE 4154-01-P